DEPARTMENT OF ENERGY

Federal Energy Regulatory Commission

[Project No. 2183-035—Oklahoma]

Grand River Dam Authority; Notice of Availability of Environmental Assessment

February 17, 2006.

In accordance with the National Environmental Policy Act of 1969, as amended, and Federal Energy Regulatory Commission (FERC or Commission) regulations (Order No. 486, 52 FR 47879), the Office of Energy Projects has reviewed the application for a new license for the Markham Ferry Project (FERC No. 2183-035), located on the Grand River in Mayes County, Oklahoma, and has prepared an environmental assessment (EA). The EA contains the staff's analysis of the potential environmental effects of relicensing the project and concludes that issuing a new license, with appropriate environmental measures, would not constitute a major Federal action that would significantly affect the quality of the human environment.

A copy of the EA is on file with the Commission and is available for public inspection. The EA also may be viewed on the Commission's Web site at http://www.ferc.gov using the “eLibrary” link. Enter the docket number excluding the last three digits in the docket number field to access documents. For assistance, contact FERC Online Support at FERCOnlineSupport@ferc.gov or toll-free at 1-866-208-3676, or for TTY, (202) 502-8659.

Any comments on the EA should be filed within 30 days of the date of this notice and should be addressed to the Secretary, Federal Energy Regulatory Commission, 888 First Street, NE., Room 1-A, Washington, DC 20426. Please reference “Markham Ferry Project, FERC Project No. 2183-035” on all comments. The Commission strongly encourages electronic filings. See 18 CFR 385.2001(a)(1)(iii) and the instructions on the Commission's Web site under the “eFiling” link. For further information, contact John Ramer at (202) 502-8969.

Magalie R. Salas,
Secretary.

[FR Doc. E6-2706 Filed 2-24-06; 8:45 am]

BILLING CODE 6717-01-P